FEDERAL ACCOUNTING STANDARDS ADVISORY BOARD

Notice of Issuance Technical Bulletin 2011-2, Extended Deferral of the Effective Date of Technical Bulletin 2006-1

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has issued Technical Bulletin 2011-2, Extended Deferral of the Effective Date of Technical Bulletin 2006-1.

The Technical Bulletin is available on the FASAB Web site at http://www.fasab.gov/pdffiles/handbook tech bulletin 2011 1.pdf.

Copies of Technical Bulletin 2011-2 can also be obtained by contacting FASAB at (202) 512-7350.

FOR FURTHER INFORMATION CONTACT: Wendy Payne, Executive Director, at (202) 512-7350.

Authority: Federal Advisory Committee Act, Pub. L. 92-463.

Dated: September 23, 2011.
Charles Jackson,
Federal Register Liaison Officer.

[FR Doc. 2011-24987 Filed 9-27-11; 8:45 am]

BILLING CODE 1610-02-P